DEPARTMENT OF AGRICULTURE

Forest Service

Sequoia National Forest; California; Piute Fire Restoration

AGENCY: Forest Service, USDA.

ACTION: Notice of intent to prepare an environmental impact statement.

SUMMARY: The project area for this analysis is the approximately 32,890 acre portion of the Piute Fire on National Forest System lands; approximately 1,700 acres of the fire restoration project area fall within the former Clear Creek Project area. The USDA Forest Service, Sequoia National Forest will prepare an environmental impact statement (EIS) for a proposal to treat approximately 2,260 acres of fire killed and damaged trees, both through removal and treating on site, in the Piute Fire burned area; some of these treatment areas are within the former Clear Creek Project area. The land allocations within the fire area, as identified in the Sierra Nevada Forest Plan Supplemental EIS, are old forest emphasis, general forest, threat zone, defense zone, protected activity centers for spotted owls, spotted owl home range core areas, and riparian conservation areas adjacent to perennial, seasonal, and ephemeral streams.

There is a need in the Piute Fire area for: (1) the recovery of the economic value of timber killed or severely injured by the fire, in a expeditious manner, for the purposes of reducing the cost of reforestation activities and supplying wood fiber to local sawmills; (2) the prevention of a future high intensity, stand-replacing wildfire by reducing long term fuel loading for the purpose of facilitating future fire management techniques (prescribed fire and wildland fire use); (3) the recruitment and retention of both short and long term large down logs and snag habitat, for the purpose of providing sufficient burned forest habitat for dependent species; (4) the re-vegetation of conifer stands and other plant and animal habitats that were burned; (5) the improvement of long term soil productivity, by repairing roads and establishing effective ground cover in severely burned areas, for the purpose of minimizing soil erosion and begin to replace soil organic material; and (6) the reduction of safety hazards to the public and forest workers from falling trees.

DATES: Comments concerning the scope of the analysis must be received by February 23, 2009. The draft environmental impact statement is expected August 2009, and the final environmental impact statement is expected February 2010.

ADDRESSES: Send written comments to: Sue Porter, Project Leader, Kern River Ranger District, P.O. Box 9, Kernville, CA 93238, and Attention: Piute Fire Restoration. Comments may be sent via e-mail smporter@fs.fed.us or via facsimile to 760-376-3795. Comments received in response to this solicitation, including the names and addresses of those who comment, will be part of the public record on this proposed action. Comments submitted anonymously will be accepted and considered; however, anonymous comments will not provide the respondent with standing to appeal the subsequent decision.

FOR FURTHER INFORMATION CONTACT: Sue Porter, 760-376-3781, extension 650. Individuals who use telecommunication devices for the deaf (TDD) may call the Federal Information Relay Service (FIRS) at 1-800-877-8339 between 8 a.m. and 8 p.m. Eastern Time, Monday through Friday.

SUPPLEMENTARY INFORMATION:

Purpose and Need for Action

In June and July 2008, the Piute Fire burned approximately 37,025 acres on the Sequoia National Forest, Bureau of Land Management and private lands. The fire burned with varying intensity across a variety of plant communities(chaparral, oak woodland, Jeffrey pine, mixed conifer, pinyon-juniper, and desert shrub). Approximately 60% of the forested areas of the fire were burned such that 75-100% of the trees were killed and the duff and litter that protected the soil was completely consumed. In these areas, the fire resulted in the destruction of wildlife habitat for sensitive species and the loss of old forest characteristics. Near the end of the fire, two localized, heavy rainstorm events occurred within the Piute Fire area. These events resulted in high rates of soil erosion in the fire area, sedimentation of streams, and debris flows that extended into the Kern River from Erskine Creek and Clear Creek and into the Walker Basin from Thompson Creek.

The fire killed tens of thousands of trees that, if left untreated, will contribute to extremely high fuel loading over time. As these dead trees fall and fuel accumulates, future fires will be even more severe. Treating the dead and dying tree component of the landscape is the first step in restoring forest health, reducing long term fuel loading, and restoring the historic fire regime, thereby reducing the impacts of fires on the future forest and contributing to the restoration of old forest habitats. Without treatment to begin to restore the fire area, significant additional impacts to soil, water quality, heritage resources, and wildlife habitat are likely over the short and long term.

This environmental impact statement (EIS) will address: treating the dead and dying tree component of the landscape, reforesting burned conifer areas, and repairing roads to reduce sediment delivery to streams. The process of completing these treatments would reduce soil erosion by immediately increasing effective ground cover (limbs, twigs, and small boles) and maintain soil productivity for tree growth.

Proposed Action

The proposed action would remove dead and dying trees, using ground-based logging methods, to recover the economic value of timber on about 510 acres and treated on site to reduce future fuel loading on an additional 1,750 acres. Trees posing a safety hazard to the public and forest workers would be removed along roads. Roads would be reconstructed and repaired to facilitate access to treatment areas and to improve watershed condition. Slash would be treated to provide ground cover and reduce short term fuel loading. Conifer seedlings would be planted to begin reforestation of the fire area. Protection would be applied to sensitive plant and wildlife species and heritage resources.

The proposed action is consistent with the 1988 Sequoia National Forest Land and Resource Management Plan, as amended by the Sierra Nevada Forest Plan Amendment Record of Decision, and the 1990 Mediated Settlement Agreement.

Possible Alternatives

Other alternatives will be developed based on significant issues identified during the scoping process for the environmental impact statement. All alternatives will need to respond to the specific condition of providing benefits equal to or better than the current condition. Alternatives being considered at this time include: (1) No Action, and (2) the Proposed Action.

Responsible Official

Tina Terrell, Forest Supervisor, Sequoia National Forest, 1839 South Newcomb Street, Porterville, CA 93257, is the responsible official. As the responsible official, she will document the decision and reasons for the decision in the Record of Decision. That decision will be subject to Forest Service appeal regulations (36 CFR Part 215).

Nature of Decision To Be Made

The decision to be made is whether to adopt and implement the proposed action, an alternative to the proposed action, or take no action to remove or treat fire killed and damaged trees in the project area, to plant conifer seedlings, to undertake road improvements, or to implement fuel treatments.

Scoping Process

The notice of intent initiates the scoping process, which guides the development of the environmental impact statement.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Dated: January 13, 2009.
Tina J. Terrell,
Forest Supervisor.

[FR Doc. E9-1043 Filed 1-21-09; 8:45 am]

BILLING CODE 3410-11-M